DEPARTMENT OF THE INTERIOR

Bureau of Land Management

[LLCO921000-L13200000-EL0000, COC076435]

Notice of Invitation To Participate; Coal Exploration License Application COC-76435, Colorado

AGENCY: Bureau of Land Management, Interior.

ACTION: Notice of invitation.

SUMMARY: All interested parties are hereby invited to participate with Trapper Mining Inc., on a pro rata cost-sharing basis, in a program for the exploration of coal deposits owned by the United States of America in lands located in Moffat County, Colorado, encompassing 3,625.26 acres.

DATES: A Notice of Invitation was also published in the Craig Daily Press and the Steamboat Pilot & Today, once each week for two consecutive weeks beginning the weeks of June 6, 2014 and June 8, 2014, respectively. Any party electing to participate in this exploration program must send written notice to both Trapper Mining Inc., and the Bureau of Land Management (BLM) as provided in the ADDRESSES section below no later than December 3, 2014 or 10 calendar days after the last publication of the notice in the Craig Daily Press and Steamboat Pilot & Today newspapers, whichever is later. Such written notice must refer to serial number COC-76435.

ADDRESSES: The proposed exploration license and plan are available for review from 9 a.m. to 4 p.m., Monday through Friday, at the BLM Colorado State Office, 2850 Youngfield Street, Lakewood, CO 80215, and the BLM Little Snake Field Office, 455 Emerson Street, Craig, CO 81625-1129. Any party electing to participate in this exploration program shall notify the BLM Colorado State Director, in writing, at the BLM Colorado State Office (see address above), and Trapper Mining Inc., Attn: Stephen R. Hinkemeyer, PE, P.O. Box 187, Craig, CO 81626.

FOR FURTHER INFORMATION CONTACT: Sharon A. Sales by telephone at 303-239-3987, or by email at ssales@blm.gov or Jennifer Maiolo by telephone at 970-826-5077, or by email at jmaiolo@blm.gov. Persons who use a telecommunications device for the deaf (TDD) may call the Federal Information Relay Service (FIRS) at 1-800-877-8339 to contact the above individual during normal business hours. The FIRS is available 24 hours a day, seven days a week, to leave a message or question with the above individual. You will receive a reply during normal business hours.

SUPPLEMENTARY INFORMATION: The authority for the notice is Section 2(b) of the Mineral Leasing Act of 1920, as amended by Section 4 of the Federal Coal Leasing Amendments Act of 1976 and the regulations adopted as 43 CFR 3410. The purpose of the exploration program is to gain additional geologic knowledge of the coal underlying the exploration area for the purpose of assessing the reserves contained in a potential lease.

The lands to be explored for coal deposits in exploration license COC-76435 are located in Moffat County, Colorado, and are described as follows:

Sixth Principal Meridian, Colorado

T. 5N., R. 90 W.,

Sec. 3, Lots 5 to 18, inclusive;

Sec. 4, Lots 5 to 16, inclusive, and lots 18 to 20, inclusive;

Sec. 10, Lot 4.

T. 6N., R. 90W.,

Sec. 26, Lots 4 to 6, inclusive, and lots 11 to 14, inclusive;

Sec. 27, Lots 1 and 2, and lots 5 to 16, inclusive;

Sec. 28, Lot 2, and lots 7 to 11, inclusive, and lots 14 to 16, inclusive;

Sec. 33, Lots 1 to 8, inclusive;

Sec. 34, Lots 1 to 16, inclusive;

Sec. 35, Lots 4 and 5.

These lands contain 3,625.260 acres, more or less.

The proposed exploration program will be conducted pursuant to an exploration plan to be approved by the BLM. The plan may be modified to accommodate the legitimate exploration needs of persons seeking to participate.

Authority: 43 CFR 3410.2-1(c)(1).

Ruth Welch,
BLM Colorado State Director.

[FR Doc. 2014-26048 Filed 10-31-14; 8:45 am]

BILLING CODE 4310-JB-P